DEPARTMENT OF THE INTERIOR

National Park Service

[NPS-WASO-NAGPRA-NPS0034370; PPWOCRADN0-PCU00RP14.R50000]

Notice of Inventory Completion: Bryn Mawr College, Bryn Mawr, PA

AGENCY: National Park Service, Interior.

ACTION: Notice.

SUMMARY: Bryn Mawr College has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Bryn Mawr College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Bryn Mawr College at the address in this notice by September 19, 2022.

FOR FURTHER INFORMATION CONTACT: Marianne Weldon, Bryn Mawr College, 101 N Merion Avenue, Bryn Mawr, PA 19010, telephone (610) 526-5022, email mweldon@brynmawr.edu.

SUPPLEMENTARY INFORMATION: Notice is here given in accordance with the Native American Graves Protection and Repatriation Act (NAGPRA), 25 U.S.C. 3003, of the completion of an inventory of human remains and associated funerary objects under the control of Bryn Mawr College, Bryn Mawr, PA. The human remains and associated funerary objects were removed from a mound in the City of Natchez, Adams County, MS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Bryn Mawr College professional staff in consultation with representatives of the Chitimacha Tribe of Louisiana and The Muscogee (Creek) Nation. The Alabama-Quassarte Tribal Town; Caddo Nation of Oklahoma; Catawba Indian Nation (previously listed as Catawba Tribe of South Carolina); Cherokee Nation; Eastern Band of Cherokee Indians; Eastern Shawnee Tribe of Oklahoma; Jena Band of Choctaw Indians; Kialegee Tribal Town; Miami Tribe of Oklahoma; Miccosukee Tribe of Indians; Mississippi Band of Choctaw Indians; Poarch Band of Creek Indians (previously listed as Poarch Band of Creeks); Quapaw Nation (previously listed as The Quapaw Tribe of Indians); Seminole Tribe of Florida (previously listed as Seminole Tribe of Florida (Dania, Big Cypress, Brighton, Hollywood, & Tampa Reservations)); Shawnee Tribe; The Chickasaw Nation; The Choctaw Nation of Oklahoma; The Osage Nation (previously listed as Osage Tribe); The Seminole Nation of Oklahoma; Thlopthlocco Tribal Town; Tunica-Biloxi Indian Tribe; and the United Keetoowah Band of Cherokee Indians in Oklahoma were invited to consult but did not participate. Hereafter, all the Indian Tribes listed in this section are referred to as “The Consulted and Invited Tribes.”

History and Description of the Remains

Sometime in the nineteenth century, human remains representing, at minimum, three individuals were removed from a burial at a mound site in the City of Natchez, Adams County, MS. Upon his death in 1882, William Sansom Vaux bequeathed a collection to the Academy of Natural Sciences in Philadelphia (ANS) that included the human remains and associated funerary objects listed in this notice. The ANS accessioned them on June 27, 1912. In 1961, the ANS loaned approximately 3,000 items, including these human remains and associated funerary objects, to Bryn Mawr College. In 1997, the ANS transferred control of the human remains and associated funerary objects to Bryn Mawr College. No known individuals were identified. The 10 associated funerary objects are one lot of iron rings or beads, three copper bracelets, three copper beads, one bone bead, one shell bead, and one shell ring.

Mound sites in the region are associated with the Plaquemine Mississippian period (circa 1200-1730 CE) and the Natchez people. Based on the presence of iron cultural items, the burial occurred after contact with European material culture.

Determinations Made by Bryn Mawr College

Officials of Bryn Mawr College have determined that:

• Pursuant to 25 U.S.C. 3001(9), the human remains described in this notice represent the physical remains of, at minimum, three individuals of Native American ancestry.

• Pursuant to 25 U.S.C. 3001(3)(A), the 10 objects described in this notice are reasonably believed to have been placed with or near individual human remains at the time of death or later as part of the death rite or ceremony.

• Pursuant to 25 U.S.C. 3001(2), there is a relationship of shared group identity that can be reasonably traced between the Native American human remains and associated funerary objects and the Chitimacha Tribe of Louisiana; Jena Band of Choctaw Indians; Mississippi Band of Choctaw Indians; The Chickasaw Nation; The Choctaw Nation of Oklahoma; and The Muscogee (Creek) Nation (hereafter referred to as “The Tribes”).

Additional Requestors and Disposition

Lineal descendants or representatives of any Indian Tribe or Native Hawaiian organization not identified in this notice that wish to request transfer of control of these human remains and associated funerary objects should submit a written request with information in support of the request to Marianne Weldon, Bryn Mawr College, 101 N Merion Avenue, Bryn Mawr, PA 19010, telephone (610) 526-5022, email mweldon@brynmawr.edu, by September 19, 2022. After that date, if no additional requestors have come forward, transfer of control of the human remains and associated funerary objects to The Tribes may proceed.

Bryn Mawr College is responsible for notifying The Consulted and Invited Tribes that this notice has been published.

Dated: August 10, 2022.
Melanie O'Brien,
Manager, National NAGPRA Program.

[FR Doc. 2022-17768 Filed 8-17-22; 8:45 am]

BILLING CODE 4312-52-P